NUCLEAR REGULATORY COMMISSION

Advisory Committee on Reactor Safeguards (ACRS); Meeting of the ACRS Subcommittee on Digital I&C; Cancellation of the November 19, 2015, ACRS Subcommittee Meeting

The ACRS Subcommittee meeting on Digital I&C scheduled for November 19, 2015, 1:00 p.m. until 5:00 p.m., has been cancelled.

The notice of this meeting was previously published in the Federal Register on Wednesday, October 21, 2015, (80 FR 63846).

Information regarding this meeting can be obtained by contacting Christina Antonescu, Designated Federal Official (DFO) (Telephone 301-415-6792 or Email: Christina.Antonescu@nrc.gov) between 7:30 a.m. and 5:15 p.m. (EST)).

Dated: November 3, 2015.
Mark L. Banks,
Chief, Technical Support Branch, Advisory Committee on Reactor Safeguards.

[FR Doc. 2015-28591 Filed 11-10-15; 8:45 am]

BILLING CODE 7590-01-P